NATIONAL SCIENCE FOUNDATION

Agency Information Collection Activities: Comment Request

AGENCY: National Science Foundation.

ACTION: Submission for OMB review; comment request.

SUMMARY: The National Science Foundation (NSF) has submitted the following request for revision of the approved collection of research and development data in accordance with the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Grantee Reporting Requirements for Prediction of and Resilience against Extreme Events (PREEVENTS).

OMB Number: 3145-0244.

Expiration Date of Approval: April 30, 2023.

Type of Request: Intent to seek approval to renew an information collection.

Proposed Project: NSF and the Directorate for Geosciences (GEO) have long supported basic research in scientific and engineering disciplines necessary to understand natural hazards and extreme events. The Prediction of and Resilience against Extreme Events (PREEVENTS) program is one element of the NSF-wide Risk and Resilience activity, which has the overarching goal of improving predictability and risk assessment, and increasing resilience, in order to reduce the impact of extreme events on our life, society, and economy. PREEVENTS provides an additional mechanism to support research and related activities that will improve our understanding of the fundamental processes underlying natural hazards and extreme events in the geosciences.

PREEVENTS is intended to encourage new scientific directions in the domains of natural hazards and extreme events. PREEVENTS will consider proposals for conferences that will foster development of interdisciplinary or multidisciplinary communities required to address complex questions surrounding natural hazards and extreme events. Such proposals are called PREEVENTS Track 1 proposals.

In addition to standard NSF annual and final report requirements, PIs for all PREEVENTS Track 1 awards will be required to submit to NSF a public report that summarizes the conference activities, attendance, and outcomes; describes scientific and/or technical challenges that remain to be overcome in the areas discussed during the conference; and identifies specific next steps to advance knowledge in the areas of natural hazards and extreme events that were considered during the conference. These reports will be made publicly available via the NSF website, and are intended to foster nascent interdisciplinary or multidisciplinary communities and to enable growth of new scientific directions.

Use of the Information: NSF will use the information to understand and evaluate the outcomes of the conference, to foster growth of new scientific communities, and to evaluate the progress of the PREEVENTS program.

Estimate of Burden: 40 hours per award for 5-10 conference awards for a total of 200-400 hours.

Respondents: Universities and Colleges; Non-profit, non-academic organizations; For-profit organizations; NSF-funded Federally Funded Research and Development Centers (FFRDCs).

Estimated Number of Responses per Report: One from each five to ten Track 1 awardees.

Dated: April 12, 2023.
Suzanne H. Plimpton,
Reports Clearance Officer, National Science Foundation.

[FR Doc. 2023-08091 Filed 4-17-23; 8:45 am]

BILLING CODE 7555-01-P